DEPARTMENT OF THE INTERIOR

National Park Service

[NPS-NCR-11935;PX.XDESC0047.00.1]

Draft Environmental Impact Statement for the Antietam, Monocacy, Manassas White-tailed Deer Management Plan

AGENCY: National Park Service, Interior.

ACTION: Notice of availability.

SUMMARY: The National Park Service (NPS) announces the availability of a Draft Environmental Impact Statement (DEIS) for the White-tailed Deer Management Plan (Plan), Antietam National Battlefield, Maryland; Monocacy National Battlefield, Maryland; and Manassas National Battlefield Park, Virginia. The white-tailed deer populations and Chronic Wasting Disease (CWD) are managed through this plan, which provides integrated tools and strategies that support preservation of the natural and cultural landscape through the protection and restoration of native vegetation and other natural and cultural resources.

DATES: The NPS will accept comments on the DEIS from the public for a period of 60 days following publication of the Environmental Protection Agency's Notice of Availability in the Federal Register. You may check the Web site of Antietam National Battlefield (www.nps.gov/anti), Monocacy National Battlefield (www.nps.gov/mono), and Manassas National Battlefield Park (www.nps.gov/mana) for dates, times, and places of public meetings to be conducted by the National Park Service, or by calling park contacts below or Tracy Atkins at (303) 969-2325.

ADDRESSES: You may submit comments by the following methods:

You may mail comments to:

Antietam National Battlefield, c/o Ed Wenschhof, P.O. Box 158, Sharpsburg, MD 21782, (301) 432-2243.

Monocacy National Battlefield, c/o Superintendent Rick Slade, 4632 Araby Church Road, Frederick, MD 21704, (301) 696-8650.

Manassas National Battlefield Park, c/o Superintendent Ed W. Clark, 12521 Lee Highway, Manassas, VA 20109-2005, (703) 754-1861.

The preferred method of comment is via the internet at http://parkplanning.nps.gov. The document will be available for public review and comment online at http://parkplanning.nps.gov/anti, and can be viewed at the following locations:

Urbana Regional Library, 9020 Amelung Street, Frederick, MD 21704

C. Burr Artz Library, 110 East Patrick Street, Frederick, MD 21701

Washington County Library, 101 Tandy Drive, Hagerstown, MD 21740

Washington County Library, 401 Potomac Street, Boonsboro, MD 21713

Washington County Library, 22 Taylor Drive, Keedysville, MD 21756

Washington County Library, 106 East Main Street, Sharpsburg, MD 21782

Manassas Central Library, c/o Branch Manager, 8601 Mathis Avenue, Manassas, VA 20110

Bull Run Regional Library, c/o Branch Manager, 8051 Ashton Avenue, Manassas, VA 20109

Fairfax City Library, 3915 Chain Ridge Road, Fairfax, VA 22030

Manassas City Museum, 9101 Prince William Street, Manassas, VA 20110

This notice also announces that public meetings will be held to solicit comments on the DEIS during the public review period. The dates, times, and locations of the public meetings will be announced on the Antietam National Battlefield, Monocacy National Battlefield, and Manassas National Battlefield Park Web sites noted above, in local newspapers, and by calling NPS contacts or Tracy Atkins.

FOR FURTHER INFORMATION CONTACT: Tracy Atkins, Project Manager, Denver Service Center Planning Division, 12795 W. Alameda Parkway, Denver, CO 80225-0287, or via phone at (303) 969-2325.

SUPPLEMENTARY INFORMATION: Antietam National Battlefield, Monocacy National Battlefield, and Manassas National Battlefield Park are all located in the NPS National Capital Region within a little over an hour's drive from Washington DC. The U.S. Congress set aside these park units to represent outstanding aspects of our natural and cultural heritage to ensure they receive the highest standards of protection. These park units commemorate “sites where historic battles were fought on American soil during the armed conflicts that shaped the growth and development of the United States.” All three battlefields commemorate one or more Civil War battles and the history associated with these battles.

The purpose of the DEIS and Plan is to develop a deer management strategy that supports preservation of the natural and cultural landscape through the protection and restoration of native vegetation. Although relatively rare at the turn of the twentieth century, white-tailed deer populations in the Mid-Atlantic region have grown during recent years. Current deer densities of 130-230 deer per square mile are substantially larger than commonly accepted sustainable densities for this region, estimated at about 15-25 deer per square mile.

The NPS has developed the DEIS under section 102(2)(C) of the National Environmental Policy Act of 1969 and consistent with National Park Service law, regulations, and policies, and the purpose of these three parks. The DEIS describes and analyzes three action alternatives (B, C, and D) to guide management actions and strategies for white-tailed deer. The alternatives include lethal and non-lethal actions to manage and reduce the impacts of white-tailed deer. Included in the alternatives is the no-action alternative (alternative A).

There are three action alternatives for the management of White-tailed deer and one management action alternative for the management of CWD:

Alternative B of the White-tailed deer management plan provides a nonlethal deer reduction option to implement nonsurgical reproductive control of does when an acceptable reproductive control agent is available that meets NPS established criteria. Large constructed exclosures would also protect 5-20% of the forested area of the parks to allow reforestation. Additional techniques include fencing of crops and woodlots, crop protection through sacrificial rows, and aversive conditioning.

Alternative C of the White-tailed Deer Management Plan provides a lethal deer reduction option through the use of sharpshooting with firearms, possible capture and euthanasia to reduce deer populations to the target density and maintain that level. Donation of meat would also occur, subject to any concerns or restrictions related to CWD.

Alternative D of the White-tailed Deer Management Plan provides a combined lethal and nonlethal deer reduction option through the use of sharpshooting with firearms, possible capture, and euthanasia to reduce deer populations to a desirable level and maintain that level. Once the target density has been reached, it will use nonsurgical reproductive control of does when an acceptable reproductive control agent is available that meets NPS established criteria.

Alternatives B, C, and D of the Plan continue targeted and opportunistic surveillance, and continued actions under any current initial detection and response plans. They incorporate a long-term CWD response plan that lethally reduces the deer population to decrease potential for CWD transmittal and spread for CWD management purposes only and only if CWD is confirmed in or within 5 miles of the parks. Deer populations could be reduced to 15-20 deer per square mile or as needed to cooperate with state program and testing requirements, but no less than 10 deer per square mile. Deer will be tested for CWD.

1. The DEIS evaluates potential environmental consequences of implementing the alternatives. Impact topics include the natural, cultural, and socioeconomic environments. For further information contact Tracy Atkins at the number above.

Before including your address, phone number, email address, or other personal identifying information in your comment, you should be aware that your entire comment—including your personal identifying information—may be made publicly available at any time. While you can ask us in your comment to withhold your personal identifying information from public review, we cannot guarantee that we will be able to do so.

Dated: July 17, 2013.
Stephen E. Whitesell,
Regional Director, National Capital Region.

[FR Doc. 2013-17656 Filed 7-22-13; 8:45 am]

BILLING CODE 4310-DL-P